FEDERAL COMMUNICATIONS COMMISSION

Federal Advisory Committee Act; Technological Advisory Council

AGENCY: Federal Communications Commission.

ACTION: Notice of intent to reestablish.

SUMMARY: In accordance with the Federal Advisory Committee Act, the purpose of this notice is to announce that a Federal Advisory Committee, known as the “Technological Advisory Council” (hereinafter the “TAC”) is being reestablished.

ADDRESSES: Federal Communications Commission, Attn: Jon M. Peha, Chief Technologist, 445 12th Street, SW., Room 7-C324, Washington, DC 20554.

FOR FURTHER INFORMATION CONTACT: Jon M. Peha, Chief Technologist, Federal Communications Commission, 445 12th Street, SW., Room 7-C324, Washington, DC 20554. Telephone: (202) 418-2406, e-mail: jon.peha@fcc.gov.

SUPPLEMENTARY INFORMATION: The Chairman of the Federal Communications Commission has determined that the reestablishment of the Council is necessary and in the public interest in connection with the performance of duties imposed on the Federal Communications Commission (FCC) by law. The Committee Management Secretariat, General Services Administration concurs with the reestablishment of the Council. The purpose of the TAC is to provide technical advice to the Federal Communications Commission and to make recommendations on the issues and questions presented to it by the FCC. The TAC will address questions referred to it by the FCC Chairman, the FCC Chief Technologist, the Chief of the FCC Office of Engineering and Technology, or the TAC Designated Federal Officer. The questions referred to the TAC will be directed to technological and technical issues in the field of communications. The duties of the TAC will be to gather data and information, perform analyses, and prepare reports and presentations to respond to the questions referred to it.

Marlene H. Dortch,
Secretary, Federal Communications Commission.

[FR Doc. E9-6463 Filed 3-25-09; 8:45 am]

BILLING CODE 6712-01-P